DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register Notice with a 60-day comment period soliciting comments on the following collection of information was published on December 13, 1999, [64 FR 69582]. No comments were received.

DATES: Comments must be submitted on or before March 31, 2000.

FOR FURTHER INFORMATION CONTACT: Frederick A. Slaugh, Office of Financial and Rate Approvals, Maritime Administration, MAR 561, 400 7th St., SW, Washington, DC 20590. Telephone 202-366-2324, or FAX 202-366-7901. Copies of this collection can also be obtained from that office.

SUPPLEMENTARY INFORMATION: Maritime Administration (MARAD).

Title: Records Retention Schedule

OMB Control Number: 2133-0501.

Type of Request: Extension of currently approved collection.

Affected Public: U.S. shipping companies.

Form(s): None.

Abstract: Section 801, Merchant Marine Act, 1936, as amended, requires retention of Construction Differential Subsidy (CDS) or Operating Differential Subsidy (ODS) records. The records are required to be retained to permit proper audit of pertinent records at the conclusion of a CDS or ODS contract.

Annual Estimated Burden Hours: 150 hours.

ADDRESSES: Send comments to the Office of Information and Regulatory Affairs, Office of Management and Budget, 725 17th Street, NW, Washington, DC 20503, Attention MARAD Desk Officer.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC on February 23, 2000.
Joel C. Richard,
Secretary, Maritime Administration.

[FR Doc. 00-4925 Filed 2-29-00; 8:45 am]

BILLING CODE 4910-81-P